DEPARTMENT OF COMMERCE

National Oceanic and Atmospheric Administration

50 CFR Part 300

[Docket No. 120106033-2163-02]

RIN 0648-BB68

Pacific Halibut Fisheries; Catch Sharing Plan

AGENCY: National Marine Fisheries Service (NMFS), National Oceanic and Atmospheric Administration (NOAA), Commerce.

ACTION: Final rule.

SUMMARY: The Assistant Administrator (AA) for Fisheries, National Oceanic and Atmospheric Administration (NOAA), on behalf of the International Pacific Halibut Commission (IPHC), publishes annual management measures promulgated as regulations by the IPHC and approved by the Secretary of State governing the Pacific halibut fishery. The AA also announces modifications to the Catch Sharing Plan (CSP) for Area 2A (waters off the U.S. West Coast) and implementing regulations for 2012, announces approval of the Area 2A CSP, and provides notice of the guideline harvest levels (GHLs) for Areas 2C and 3A. These actions are intended to enhance the conservation of Pacific halibut and further the goals and objectives of the Pacific Fishery Management Council (PFMC) and the North Pacific Fishery Management Council (NPFMC) (Councils).

DATES: This rule is effective April 23, 2012. The IPHC's 2012 annual management measures are effective March 22, 2012, except for the measures in section 26, which are effective April 23, 2012. The 2012 management measures are effective until superseded.

ADDRESSES: Additional requests for information regarding this action may be obtained by contacting: the International Pacific Halibut Commission, 2320 W. Commodore Way Suite 300, Seattle, WA 98199-1287; or Sustainable Fisheries Division, NMFS Alaska Region, P.O. Box 21668, Juneau, AK 99802, Attn: Ellen Sebastian, Records Officer; or Sustainable Fisheries Division, NMFS Northwest Region, 7600 Sand Point Way, NE., Seattle, WA 98115. This final rule also is accessible via the Internet at the Federal eRulemaking portal at http://www.regulations.gov.

FOR FURTHER INFORMATION CONTACT: For waters off Alaska, Glenn Merrill, 907-586-7228, email at glenn.merrill@noaa.gov; or Rachel Baker, 907-586-7228, email at rachel.baker@noaa.gov; or, for waters off the U.S. West Coast, Sarah Williams, 206-526-4646, email at sarah.williams@noaa.gov.

SUPPLEMENTARY INFORMATION:

Background

The IPHC has promulgated regulations governing the Pacific halibut fishery in 2012 under the Convention between Canada and the United States for the Preservation of the Halibut Fishery of the North Pacific Ocean and Bering Sea (Convention), signed at Ottawa, Ontario, on March 2, 1953, as amended by a Protocol Amending the Convention (signed at Washington, DC, on March 29, 1979).

As provided by the Northern Pacific Halibut Act of 1982 (Halibut Act) at 16 U.S.C. 773b, the Secretary of State, with the concurrence of the Secretary of Commerce (Secretary), may accept or reject, on behalf of the United States, recommendations made by the IPHC in accordance with the Convention (Halibut Act, Sections 773-773k.). On March 5, 2012, the Secretary of State of the United States, with the concurrence of the Secretary, accepted the 2012 IPHC regulations as provided by the Northern Pacific Halibut Act of 1982 (Halibut Act) at 16 U.S.C. 773-773k.

The Halibut Act provides the Secretary with the authority and general responsibility to carry out the requirements of the Convention and the Halibut Act. The Regional Fishery Management Councils may develop and the Secretary may implement regulations governing harvesting privileges among U.S. fishermen in U.S. waters that are in addition to, and not in conflict with approved IPHC regulations. The NPFMC has exercised this authority most notably in developing a suite of halibut management programs that correspond to the three fisheries that harvest halibut in Alaska: the subsistence, sport, and commercial fisheries.

Subsistence and sport halibut fishery regulations are codified at 50 CFR part 300. Commercial halibut fisheries in Alaska operate within the Individual Fishing Quota (IFQ) Program and Community Development Quota (CDQ) Program (50 CFR part 679), and through area-specific catch sharing plans. Regulations for a commercial and sport fishery Halibut CSP in Areas 2C and 3A are being developed pursuant to the NPFMC authority under the Halibut Act. NMFS published a proposed rule for the Area 2C and Area 3A CSP on July 16, 2011, and accepted comments on the proposed rule and on the Environmental Assessment (EA), Regulatory Impact Review, and Initial Regulatory Flexibility Analysis (IRFA) prepared for the CSP through September 21, 2011. In October 2011, NMFS informed the NPFMC that public comments received on the proposed CSP raised issues that may require additional input from the NPFMC before NMFS can proceed to a final rule. NMFS is continuing to work with the NPFMC to address these issues of concern and is seeking NPFMC advice on how to proceed with agency review of the Area 2C and Area 3A CSP.

The PFMC also exercises authority in a CSP allocating halibut among groups of fishermen in Area 2A, off the coasts of Washington, Oregon, and California. The CSP allocates the Area 2A catch limit among treaty Indian and non-Indian harvesters, and non-Indian commercial and sport harvesters. The treaty Indian group includes tribal commercial, and tribal ceremonial and subsistence fisheries. The Secretary implemented the Area 2A CSP recommended by the PFMC in 1995. Each year between 1995 and the present, the PFMC has adopted minor revisions to the plan to account for needs of the fisheries. These revisions are implemented in regulations for Area 2A through annual rule making and annual IPHC review and recommendation of management measures for Secretarial review. The Area 2A regulations are part of the IPHC annual management measures and are superseded each year by new implementing regulations.

The NPFMC implemented a CSP among commercial IFQ and CDQ halibut fisheries in IPHC Areas 4C, 4D and 4E (Area 4) through rulemaking, and the Secretary approved the plan on March 20, 1996 (61 FR 11337). The Area 4 CSP regulations were codified (50 CFR 300.65) and amended through rule making on March 17, 1998 (63 FR 13000). New annual regulations pertaining to the Area 4 CSP also may be implemented through IPHC review and recommendation for Secretarial review.

Publication of this final rule announces that the U.S. Secretary of State has accepted the annual management measures recommended by the IPHC, implements Area 2A regulations supporting annual management measures recommended by IPHC, implements the Area 2A CSP, announces the GHLs for Areas 2C and 3A, and makes minor changes to the codified halibut regulations. The proposed rule for the Area 2A CSP was published on February 3, 2012 (77 FR 5473).

Pursuant to regulations at 50 CFR 300.62, the approved IPHC regulations setting forth the 2012 IPHC annual management measures are published in the Federal Register to provide notice of their immediate regulatory effect, and to inform persons subject to the regulations of the restrictions and requirements. NMFS could implement more restrictive regulations for the sport fishery for halibut or components of it; therefore, anglers are advised to check the current Federal or IPHC regulations prior to fishing.

The IPHC held its annual meeting in Anchorage, Alaska, January 24-27, 2012, and recommended a limited number of changes to the previous IPHC regulations (76 FR 14300, March 16, 2011). The Secretary of State approved the following changes to the previous IPHC regulations for 2012:

1. New halibut catch limits in all regulatory areas in Section 11;

2. New commercial halibut fishery opening and closing dates in Section 8;

3. Licensing requirements for retaining incidental Pacific Halibut caught in the Primary Sablefish Fishery North of Pt. Chehalis, Washington; in Sections 4 and 8;

4. Modified logbook regulations in Areas 2A and 2B in Section 16;

5. Adopting the revised Catch Sharing Plan (CSP) for Area 2A in Sections 22 and 26;

6. Size limit on the halibut retained on board a charter vessel fishing in Regulatory Area 2C of less than 45 inches or greater than 68 inches in length (a “reverse slot limit”) in Section 28.

These are the only changes to the previous IPHC regulations for the 2012 fishing season. NMFS is publishing the 2012 IPHC regulations in this final rule to provide the public with the complete set of regulations.

Catch Limits

The IPHC recommended to the governments of Canada and the United States catch limits for 2012 totaling 33,540,000 pounds (15,213 mt), an 18.3 percent reduction from the 2011 catch limits for all areas. The IPHC staff reported on the 2011 assessment of the Pacific halibut stock that estimated coastwide biomass, with apportionment among regulatory areas based on the data from the annual IPHC standardized stock assessment survey. The IPHC recommended a 21.5 percent harvest rate for Area 2A through Area 3A, and a harvest rate of 16.1 percent for Areas 3B, 4A, 4B and 4CDE. Catch limits adopted for 2012 were lower in all regions of the stock except Areas 2A and 2C. The IPHC also recommended using the harvest control rule it adopted in 2011 to implement the full reductions in catch limits identified by the stock assessment, rather than the partial (50 percent) reductions used in previous years. Concern exists over continued declining halibut catch rates in most areas and IPHC staff recommended continued action to reduce harvests. The IPHC staff also noted as a continuing problem that updated information often indicates that previous estimates of biomass are incorrect, and that as a result actual historical harvest rates of the halibut stock are higher than the estimates IPHC used to inform its stock assessments. IPHC scientists will be conducting additional research on this matter in 2012.

The IPHC adopted the staff recommendations for catch limits in 2012 for all areas except 2B. Catch limits adopted for Areas 2A and 2C in 2012 were approximately 9 percent, and 13 percent higher, respectively, than in 2011. Catch limits adopted for Areas 2B, 3A, and 3B in 2012 were approximately 8 percent, 17 percent, and 32 percent lower, respectively, than in 2011 Catch limits in Areas 4A, 4B, 4CD, and 4E were approximately 35 percent, 14 percent, 34 percent, and 26 percent lower, respectively, than in 2011.

Commercial Halibut Fishery Opening Dates

The opening date for the tribal commercial fishery in Area 2A and for the commercial halibut fisheries in Areas 2B through 4E is March 17, 2012. The date takes into account a number of factors, including timing of halibut migration and spawning, marketing for seasonal holidays, and interest in getting product in to the processing plants before the herring season opens. The closing date for the halibut fisheries is November 7, 2012. This date takes into account the anticipated time required to fully harvest the commercial halibut catch limits while providing adequate time for IPHC staff to review the complete record of 2012 commercial catch data for use in the 2013 stock assessment process.

In the Area 2A directed fishery, each fishing period shall begin at 0800 hours and terminate at 1800 hours local time on June 27, July 11, July 25, August 8, August 22, September 5, and September 19, 2012, unless the IPHC specifies otherwise. These 10-hour openings will occur until the quota is taken and the fishery is closed.

Modification of Area 2A Licensing Regulations

Because the Area 2A TAC is over 900,000 lbs (408.2 mt), incidental take of halibut will be allowed in the sablefish primary fishery in 2012. Therefore regulations pertaining to vessel licensing in Area 2A were updated at paragraph 4(4)(a) to allow vessels operating in the commercial halibut or sablefish primary fishery to choose a license that allows this type of participation.

Size Limit on the Halibut Retained on Board a Charter Vessel Fishing in Area 2C of Less Than or Equal to 45 Inches and Greater Than or Equal to 68 Inches in Length

This final rule prohibits a person onboard a charter vessel referred to in 50 CFR 300.65 and fishing in Area 2C from taking or possessing any halibut, with head on, that is greater than 45 inches (114.3 cm) and less than 68 inches (172.7 cm), as measured in a straight line, passing over the pectoral fin from the tip of the lower jaw with mouth closed, to the extreme end of the middle of the tail.

The IPHC recognizes the role of the NPFMC to develop policy and regulations that allocate the Pacific halibut resource among fishermen in and off of Alaska, and that NMFS has developed numerous regulations to support the NPFMC's goals of limiting guided sport (charter) harvests over the past several years. The IPHC specifically recommended this additional size limit as a management measure in the Area 2C charter fishery, based on guidance from the NPFMC to limit charter halibut harvests to the stated harvest policy of the United States for the charter fishery, the GHL.

The GHL was recommended by the NPFMC in February 2000, after several years of debate and refinement. NMFS published a final rule implementing the GHL on August 8, 2003 (68 FR 47256). The GHL establishes a pre-season estimate of the acceptable annual harvests for the charter fishery in Areas 2C and 3A. The GHLs are established as a total maximum poundage, which is responsive to annual fluctuations in abundance. For example, in the event of a reduction in either area's halibut biomass, as determined by the IPHC, the area GHL is reduced incrementally in a stepwise fashion in proportion to the reduction.

Regulations at § 300.65(c)(1) specify the GHLs based on the total constant exploitation yield (CEY) that is established annually by the IPHC. The CEY represents the target level for total halibut removals in an area for the coming year. The IPHC calculates the CEY in a given area by multiplying a target harvest rate by the estimate of exploitable biomass, or the portion of the biomass available to the fishery. The charter halibut fishery exceeded the GHL in Area 2C from 2004 through 2010. During 2004 through 2007, the GHL was 1,432,000 pounds. During that time period, charter harvests were approximately 1,750,000 pounds in 2004, 1,952,000 pounds in 2005, 1,804,000 pounds in 2006, and 1,918,000 pounds in 2007. In 2008, the GHL was 931,000 pounds and charter harvests were approximately 1,999,000 pounds. In 2009 the GHL was 788,000 pounds and the charter harvest was approximately 1,245,000 pounds. In 2010, the GHL was 788,000 pounds and the charter harvest was approximately 1,249,000 pounds. The Area 2C charter harvest exceeded its GHL every year from 2004 through 2010 notwithstanding management measures designed by the NPFMC and implemented by NMFS to control sport halibut harvest to the GHL in this area.

Recognizing that the GHL was not limiting fishing, the NPFMC recommended a CSP for Area 2C and Area 3A in October 2008, to replace the current GHL and establish specific allocations of halibut harvest between the charter and commercial setline fisheries in Area 2C and 3A. Under the CSP, the IPHC would annually establish one combined charter and commercial catch limit to which pre-specified sector allocation percentages would apply. Multiplying the specified percentage by the combined catch limit would result in a specific catch limit for each sector. Using a nondiscretionary process specified in Federal regulations, changes in the combined charter and commercial catch limit could trigger changes in the charter halibut bag and size limit in effect for that year.

At the IPHC's annual meeting in January 2011, the IPHC became aware that charter halibut harvests in Area 2C were likely to exceed the 788,000 pound GHL based on the well-established trend of charter harvests since 2004, and the demonstrated removals under existing regulations. Therefore, the IPHC concluded that additional restrictions were necessary to limit that charter harvest to the GHL and achieve the IPHC's overall conservation objective and the NPFMC's allocation objective for Area 2C.

The IPHC determined that limiting charter harvests in Area 2C to one fish of no more than 37 inches would likely meet the multiple objectives established by the IPHC in 2011. The Secretary of State, with the concurrence of the Secretary, accepted the IPHC's recommended daily bag limit for charter vessel anglers in Area 2C of one halibut with a maximum length of 37 inches (94.0 cm) per day (76 FR 14300, March 16, 2011).

In November 2011, the Alaska Department of Fish and Game (ADF&G) estimated that 2011 Area 2C charter harvests under the 37-inch maximum length rule totaled approximately 388,000 pounds, which is significantly below the GHL of 788,000 pounds. The NPFMC determined that the GHL would continue to be in place for the 2012 charter halibut season because the CSP would not be implemented for 2012. Based on the 2011 charter harvest estimate that was well below the GHL under the 37-inch maximum length limit regulation, the NPFMC determined that it would be appropriate for IPHC to consider management measures in addition to a maximum length limit to limit charter harvest to the GHL. To address this issue for 2012, the NPFMC requested that ADF&G analyze the following options for management measures for the Area 2C charter halibut fishery to limit charter harvest to the 2012 GHL:

1. Maximum size limits;

2. Reverse slot limits (anglers may retain fish under a relatively small maximum size limit and fish over a relatively high minimum size limit, but must return to the sea fish that are larger than the lower size limit and smaller than the upper size limit); and

3. Closures on selected days of the week.

In November 2011, the IPHC announced the total CEY for Area 2C in 2012, which results in an Area 2C GHL of 931,000 pounds. In December 2011, the NPFMC reviewed the analysis of the management measures to limit Area 2C charter harvest to the 2012 GHL and unanimously recommended that the IPHC implement a reverse slot limit with a lower limit of under 45 inches (U45) and an upper limit of over 68 inches (O68). This U45/O68 reverse slot limit would allow the retention of halibut approximately ≤ 32 pounds and ≥ 123 pounds (headed and gutted). In considering charter management measures for 2012, the NPFMC sought to select a management measure that would enable the charter sector to harvest an amount of halibut close to the GHL without exceeding it.

The NPFMC noted that its U45/O68 reverse slot limit recommendation is likely to limit charter harvest to the GHL because the analysis projected that charter harvest under these length limits would be 6.4 percent under the GHL. The NPFMC also determined that its recommendation was conservative because it assumes (1) the higher of two harvest projections of numbers of fish (45,338) harvested by charter vessel anglers in Area 2C based on the recent 3-year average; and (2) that charter vessel anglers will want to retain the largest halibut possible, will choose to release more smaller halibut in comparison to recent years, and this selectivity will result in approximately 20 percent more fish harvested that are greater than 68 inches in length than in the previous fishing year.

The NPFMC recommended a reverse slot limit instead of a maximum length limit based on input from its Charter Implementation Committee and charter fishery participants indicating that the reverse slot limit would provide anglers with an opportunity to retain a “trophy” fish (halibut larger than 68 inches), whereas a maximum length limit would prohibit retention of any halibut larger than the maximum length limit. These charter fishery stakeholders indicated that a reverse slot limit would be less likely to result in adverse economic impacts from reduced angler demand than a maximum length limit regulation.

The NPFMC did not recommend daily closures because of identified enforcement difficulties and uncertainty regarding the effects of daily closures on charter harvest. Additionally, the day of the week closure would impact charter businesses differently, depending on their business model and their ability to change halibut fishing schedules for individual clients.

The NPFMC requested that the IPHC implement the U45/O68 reverse slot limit in the 2012 Area 2C charter fishery. At its annual meeting in January 2012, the IPHC reviewed the ADF&G analysis the NPFMC used in developing its recommendation. The IPHC unanimously recommended implementing the U45/O68 reverse slot limit for charter anglers in Area 2C for the 2012 halibut fishing season. The IPHC determined that its recommended reverse slot limit in Area 2C was necessary to prevent excess halibut harvest by charter vessel anglers as an immediate but interim measure for 2012. The IPHC's recommendation was based on the NPFMC's objective to implement a management measure that would (1) restrict charter harvest to the GHL, and (2) be less likely to result in adverse economic impacts for charter operators from reduced angler demand than a maximum length limit regulation.

Area 2C Carcass Retention

Current IPHC regulations prohibit the filleting, mutilation or other disfigurement of sport-caught halibut that would prevent the determination of the size or number of halibut possessed or landed. In Southeast Alaska Area 2C, the IPHC recommended maintaining the current regulation at section 28(2)(b) that a person onboard a charter vessel who possesses filleted halibut must also retain the entire carcass, with head and tail connected as a single piece, onboard the vessel until all the fillets are offloaded. This regulation was implemented in 2011 to facilitate enforcement of the 37-inch maximum size limit and accounting of each charter vessel angler's halibut bag limit. The IPHC recommended maintaining the carcass retention requirement in 2012 to facilitate enforcement of the U45/O68 reverse slot limit in Area 2C.

Pacific Fishery Management Council's Area 2A Catch Sharing Plan and Codified Regulations

In addition to implementing the IPHC recommendations, this final rule approves several Council-recommended changes to the Pacific Fishery Management Council's Area 2A CSP, implements the CSP through annual management measures, and makes minor changes to NMFS' codified regulations for the halibut fishery in Area 2A.

Changes to Codified Regulations for Area 2A

This final rule makes minor corrections to the Federal regulations at § 300.63 to make the term “sablefish primary fishery” consistent through the halibut regulations to match the groundfish regulations where the term is defined. Current halibut regulations use inconsistent terms to refer to the sablefish primary fishery. These changes are minor corrections and do not represent a shift in policy regarding the sablefish primary fishery or the halibut fishery.

Changes to the Area 2A Catch Sharing Plan; Annual Management Measures

This final rule approves the CSP as revised by recommendations of the PFMC. For 2012 and beyond, the PFMC has recommended several minor changes to the Plan that would: Adjust the primary fishery schedule for the Washington South coast subarea to maintain the number of fishing days seen in previous years; adjust the quota split for the Columbia River subarea between the early and late fishery to better align the fishery with recent effort trends, and adjust the Oregon contribution to the subarea to better align the Oregon quota contribution to the Columbia River subarea quota with previous years' halibut landings from Oregon; adjust the Oregon Central Coast subarea spring and nearshore quotas to allow the maximum number of fishing days in each fishery and adjust the inseason adjustment rules for this subarea so that any remaining quota from the spring fishery may be allocated to either the summer fishery and/or the nearshore fishery. This final rule also adopts the annual domestic management measures for Area 2A. Changes to these management measures from 2011 are necessary to implement the IPHC's decision regarding the Area 2A total allowable catch (TAC) and the above-described changes to the Catch Sharing Plan.

The adjustment in 2012 to the Oregon contribution to the quota for the Columbia River subarea results in a small portion of the overall Oregon/California sport fishery allocation being undistributed. The overall Oregon/California sport fishery allocation is separated into three components: (1) A contribution to the Columbia River subarea (previously 5 percent or amount equal to the Washington contribution, whichever was greater); (2) a 92 percent allocation to the Oregon Central Coast subarea; and (3) a 3 percent allocation to the South of Humbug subarea. In past years the Oregon contribution to the Columbia River subarea quota was set at 5 percent, because this amount was greater than the Washington contribution, meaning that the three components of the Oregon/California sport fishery allocation totaled 100 percent. This year, the Oregon contribution is set equal to the Washington contribution, which is an amount less than 5 percent of the overall Oregon/California sport fishery allocation. This change results in a remainder of 2 percent undistributed Oregon/California sport fishery allocation. To remedy this situation NMFS is not making any long-term changes to allocations, but is distributing the remainder of the overall Oregon/California sport fishery allocation left after the Columbia River contribution is removed according to the Oregon/California subarea allocations specified in the Plan; i.e., the remainder will be distributed 92 percent to the Central Coast subarea and 3 percent to the South of Humbug subarea. For 2013 and beyond NMFS anticipates that the Council will recommend changes to the CSP to address this issue.

Incidental Halibut Retention in the Sablefish Primary Fishery North of Pt. Chehalis, Washington

The CSP provides that incidental halibut retention in the sablefish primary fishery north of Pt. Chehalis, Washington, will be allowed when the Area 2A TAC is greater than 900,000 lb (408.2 mt), provided that a minimum of 10,000 lb (4.5 mt) is available above a Washington recreational TAC of 214,100 lb (97.1 mt). In 2012, the TAC is 989,000 lb (448.6 mt); therefore incidental halibut retention will be allowed in this fishery. Landing restrictions will be recommended by the PFMC for public review at its March meeting and final recommendations will occur at its April meeting. Following this meeting NMFS will publish the restrictions in the Federal Register.

Corrections to Federal Regulations at § 300.63

This rule makes minor corrections to the Federal regulations at § 300.63 to make the term “sablefish primary fishery” consistent through the halibut regulations and match the groundfish regulations where the term is defined. Current halibut regulations inconsistently use the terms when referring to the sablefish primary fishery.

Area 2A Catch Sharing Plan and Annual Regulations; Comments and Responses

NMFS accepted comments through February 21, 2012, on the proposed rule for the Area 2A CSP and annual regulations and received 2 public comments: One comment letter each from Washington Department of Fish and Wildlife (WDFW) and Oregon Department of Fish and Wildlife (ODFW) recommending season dates for halibut sport fisheries in each state.

Comment 1: The WDFW held a public meeting following the IPHC's final 2012 TAC decisions to review the results of the 2011 Puget Sound halibut fishery, and to develop season dates for the 2012 sport halibut fishery. Based on the 2012 Area 2A TAC of 989,000 lb (448.6 mt), the halibut quota for the Puget Sound sport fishery is 57,393 lb (26 mt). Because the catch in this area exceeded the quota in 2008, 2009, and 2010, WDFW will continue to use the highest catch rate seen over the last 5 years to determine the number of days available to the fishery. Within the Puget Sound sport halibut fishery, WDFW recommends they open as follows: in the Eastern Region from May 3-19, Thursday through Saturday, and May 24-28, Thursday through Monday, and from May 31 through June 2, Thursday through Saturday. In the Western Region from May 24-28, WDFW recommends the fishery be open Thursday through Monday; and from May 31-June 23, Thursday through Saturday.

Response: NMFS agrees with WDFW's recommended Puget Sound season dates. These dates will help keep this area within its quota, while providing for angler enjoyment and participation. Therefore, NMFS implements the dates in this final rule.

Comment 2: ODFW held a public meeting following the final TAC decision by the IPHC to gather comments on the open dates for the recreational all-depth fishery in Oregon's Central Coast Subarea. Since 2004, the number of open fishing days that could be accommodated in the spring fishery has been roughly constant. The catch limit for this sub-area's spring season will be 191,780 lb (86.9 mt) in 2012, based on the IPHC's 2012 TAC for Area 2A. Because of the increased TAC for 2012, ODFW recommends setting a Central Coast all-depth fishery of 12 days. ODFW recommends the following days for the spring fishery, within this subarea's parameters for a Thursday-Saturday season and with weeks of adverse tidal conditions skipped: Regular open days of May 10-12, 17-19, 24-26 and May 31-June 2; back-up open days of June 14-16, 28-30, July 12-14, and 26-28. For the summer fishery in this subarea, ODFW recommended following the CSP's parameters of opening the first Friday in August, with open days to occur every other Friday-Saturday, unless modified in-season within the parameters of the CSP. Under the CSP, the 2012 summer all-depth fishery in Oregon's Central Coast Subarea occurs: August 3-4, 17-18, August 31-September 1, 14-15, 28-29, October 12-13, and 26-27.

Response: NMFS agrees with ODFW's recommended Central Coast season dates. These dates will help keep this area within its quota, while providing for angler enjoyment and participation. Therefore, NMFS implements the dates in this final rule.

Changes From the Proposed Rule

On February 2, 2012, NMFS published a proposed rule to modify the CSP and recreational management measures for Area 2A (77 FR 5473). The final TAC amounts were not available until January 27, 2012, which was after the proposed rule needed to be drafted and sent to the Office of the Federal Register for timely publication. The provisions in the proposed rule were based on the preliminary estimate of the 2A TAC of 989,000 lb. The final 2A TAC is unchanged from the proposed rule. There are four changes to sport fishery season dates in this final rule from the proposed rule. The first two changes are in sections (8)(b)(i)(A) and (B) in the annual management measures. These changes were made after discussion with WDFW to better align the season dates with past practices of having a “quota management closure” following the first two open periods; the dates listed in the proposed rule were in error and did not include a quota management closure.. The third change is in section (8)(d)(i). July 15th was listed as the closing date of the first open period, but it should be July 14th. The first open period is scheduled to close on a Saturday, and July 15 is a Sunday, therefore Saturday July 14 is the correct date. The final change is to season dates in section (8)(e)(i)(C). The opening of the summer season was incorrectly listed as September 7 and 8, the correct dates are September 14-15 to follow the season structure of being open every other week. The remainder of the changes in this final rule are to simply add dates for sport fisheries which were not listed in the proposed rule. The proposed rule does not contain final season dates because the states do not submit their final season date recommendations until the final TAC decision is made by the IPHC (after the publication of the proposed rule) and the states have held their public meetings. There are no other substantive changes from the proposed rule.

Guideline Harvest Levels for Areas 2C and 3A

NMFS provides notice of the 2012 Pacific halibut GHLs for the charter fishery in IPHC Regulatory Areas 2C and 3A. This notice is necessary to meet the regulatory requirement at 50 CFR 300.65(c) to publish notice announcing the GHLs and to inform the public about the 2012 GHLs for the charter fishery for halibut. The GHLs are benchmark harvest levels for participants in the charter fishery. Regulations at § 300.65(c)(1) specify the GHLs based on the total CEY that is established annually by the IPHC. The total CEY for 2012 is 5,865,000 pounds (2,660.3 mt) in Area 2C, and 19,779,000 pounds (8,971.6 mt) in Area 3A. The corresponding GHLs are 931,000 pounds (422.3 mt) in Area 2C, and 3,103,000 pounds (1,407.5 mt) in Area 3A.

Annual Halibut Management Measures

The following annual management measures for the 2012 Pacific halibut fishery are those recommended by the IPHC and accepted by the Secretary of State, with the concurrence of the Secretary. The sport fishing regulations for Area 2A, included in paragraph 26, are consistent with the measures adopted by the IPHC and approved by the Secretary of State, but were developed by the Pacific Fishery Management Council and promulgated by the United States under the Halibut Act.

1. Short Title

These Regulations may be cited as the Pacific Halibut Fishery Regulations.

2. Application

(1) These Regulations apply to persons and vessels fishing for halibut in, or possessing halibut taken from, the maritime area as defined in Section 3.

(2) Sections 3 to 6 apply generally to all halibut fishing.

(3) Sections 7 to 20 apply to commercial fishing for halibut.

(4) Section 21 applies to tagged halibut caught by any vessel.

(5) Section 22 applies to the United States treaty Indian fishery in Subarea 2A-1.

(6) Section 23 applies to customary and traditional fishing in Alaska.

(7) Section 24 applies to Aboriginal groups fishing for food, social and ceremonial purposes in British Columbia.

(8) Sections 25 to 28 apply to sport fishing for halibut.

(9) These Regulations do not apply to fishing operations authorized or conducted by the Commission for research purposes.

3. Definitions

(1) In these Regulations,

(a) “authorized officer” means any State, Federal, or Provincial officer authorized to enforce these Regulations including, but not limited to, the National Marine Fisheries Service (NMFS), Canada's Department of Fisheries and Oceans (DFO), Alaska Wildlife Troopers (AWT), United States Coast Guard (USCG), Washington Department of Fish and Wildlife (WDFW), and the Oregon State Police (OSP);

(b) “authorized clearance personnel” means an authorized officer of the United States, a representative of the Commission, or a designated fish processor;

(c) “charter vessel” means a vessel used for hire in sport fishing for halibut, but not including a vessel without a hired operator;

(d) “commercial fishing” means fishing, the resulting catch of which is sold or bartered; or is intended to be sold or bartered, other than (i) sport fishing, (ii) treaty Indian ceremonial and subsistence fishing as referred to in section 22, (iii) customary and traditional fishing as referred to in section 23 and defined by and regulated pursuant to NMFS regulations published at 50 CFR part 300, and (iv) Aboriginal groups fishing in British Columbia as referred to in section 24;

(e) “Commission” means the International Pacific Halibut Commission;

(f) “daily bag limit” means the maximum number of halibut a person may take in any calendar day from Convention waters;

(g) “fishing” means the taking, harvesting, or catching of fish, or any activity that can reasonably be expected to result in the taking, harvesting, or catching of fish, including specifically the deployment of any amount or component part of setline gear anywhere in the maritime area;

(h) “fishing period limit” means the maximum amount of halibut that may be retained and landed by a vessel during one fishing period;

(i) “land” or “offload” with respect to halibut, means the removal of halibut from the catching vessel;

(j) “license” means a halibut fishing license issued by the Commission pursuant to section 4;

(k) “maritime area,” in respect of the fisheries jurisdiction of a Contracting Party, includes without distinction areas within and seaward of the territorial sea and internal waters of that Party;

(l) “net weight” of a halibut means the weight of halibut that is without gills and entrails, head-off, washed, and without ice and slime. If a halibut is weighed with the head on or with ice and slime, the required conversion factors for calculating net weight are a 2 percent deduction for ice and slime and a 10 percent deduction for the head;

(m) “operator,” with respect to any vessel, means the owner and/or the master or other individual on board and in charge of that vessel;

(n) “overall length” of a vessel means the horizontal distance, rounded to the nearest foot, between the foremost part of the stem and the aftermost part of the stern (excluding bowsprits, rudders, outboard motor brackets, and similar fittings or attachments);

(o) “person” includes an individual, corporation, firm, or association;

(p) “regulatory area” means an area referred to in section 6;

(q) “setline gear” means one or more stationary, buoyed, and anchored lines with hooks attached;

(r) “sport fishing” means all fishing other than (i) Commercial fishing, (ii) treaty Indian ceremonial and subsistence fishing as referred to in section 22, (iii) customary and traditional fishing as referred to in section 23 and defined in and regulated pursuant to NMFS regulations published in 50 CFR part 300, and (iv) Aboriginal groups fishing in British Columbia as referred to in section 24;

(s) “tender” means any vessel that buys or obtains fish directly from a catching vessel and transports it to a port of landing or fish processor;

(t) “VMS transmitter” means a NMFS-approved vessel monitoring system transmitter that automatically determines a vessel's position and transmits it to a NMFS-approved communications service provider.¹

¹ Call NOAA Enforcement Division, Alaska Region, at 907-586-7225 between the hours of 0800 and 1600 local time for a list of NMFS-approved VMS transmitters and communications service providers.

(2) In these Regulations, all bearings are true and all positions are determined by the most recent charts issued by the United States National Ocean Service or the Canadian Hydrographic Service.

4. Licensing Vessels for Area 2A

(1) No person shall fish for halibut from a vessel, nor possess halibut on board a vessel, used either for commercial fishing or as a charter vessel in Area 2A, unless the Commission has issued a license valid for fishing in Area 2A in respect of that vessel.

(2) A license issued for a vessel operating in Area 2A shall be valid only for operating either as a charter vessel or a commercial vessel, but not both.

(3) A vessel with a valid Area 2A commercial license cannot be used to sport fish for Pacific halibut in Area 2A.

(4) A license issued for a vessel operating in the commercial fishery in Area 2A shall be valid for one of the following, but not both:

(a) the directed commercial fishery during the fishing periods specified in paragraph (2) of section 8 and the incidental commercial fishery during the sablefish fishery specified in paragraph (3) of section 8; or

(b) the incidental catch fishery during the salmon troll fishery specified in paragraph (4) of section 8.

(5) A license issued in respect to a vessel referred to in paragraph (1) of this section must be carried on board that vessel at all times and the vessel operator shall permit its inspection by any authorized officer.

(6) The Commission shall issue a license in respect to a vessel, without fee, from its office in Seattle, Washington, upon receipt of a completed, written, and signed “Application for Vessel License for the Halibut Fishery” form.

(7) A vessel operating in the directed commercial fishery or the incidental commercial fishery during the sablefish fishery in Area 2A must have its “Application for Vessel License for the Halibut Fishery” form postmarked no later than 11:59 p.m. on April 30, or on the first weekday in May if April 30 is a Saturday or Sunday.

(8) A vessel operating in the incidental commercial fishery during the salmon troll season in Area 2A must have its “Application for Vessel License for the Halibut Fishery” form postmarked no later than 11:59 p.m. on March 31, or the first weekday in April if March 31 is a Saturday or Sunday.

(9) Application forms may be obtained from any authorized officer or from the Commission.

(10) Information on “Application for Vessel License for the Halibut Fishery” form must be accurate.

(11) The “Application for Vessel License for the Halibut Fishery” form shall be completed and signed by the vessel owner.

(12) Licenses issued under this section shall be valid only during the year in which they are issued.

(13) A new license is required for a vessel that is sold, transferred, renamed, or the documentation is changed.

(14) The license required under this section is in addition to any license, however designated, that is required under the laws of the United States or any of its States.

(15) The United States may suspend, revoke, or modify any license issued under this section under policies and procedures in Title 15, CFR part 904.

5. In-Season Actions

(1) The Commission is authorized to establish or modify regulations during the season after determining that such action:

(a) will not result in exceeding the catch limit established preseason for each regulatory area;

(b) is consistent with the Convention between Canada and the United States of America for the Preservation of the Halibut Fishery of the Northern Pacific Ocean and Bering Sea, and applicable domestic law of either Canada or the United States; and

(c) is consistent, to the maximum extent practicable, with any domestic catch sharing plans or other domestic allocation programs developed by the United States or Canadian governments.

(2) In-season actions may include, but are not limited to, establishing or modifying the following:

(a) closed areas;

(b) fishing periods;

(c) fishing period limits;

(d) gear restrictions;

(e) recreational bag limits;

(f) size limits; or

(g) vessel clearances.

(3) In-season changes will be effective at the time and date specified by the Commission.

(4) The Commission will announce in-season actions under this section by providing notice to major halibut processors; Federal, State, United States treaty Indian, and Provincial fishery officials; and the media.

6. Regulatory Areas

The following areas shall be regulatory areas (see Figure 1) for the purposes of the Convention:

(1) Area 2A includes all waters off the states of California, Oregon, and Washington;

(2) Area 2B includes all waters off British Columbia;

(3) Area 2C includes all waters off Alaska that are east of a line running 340° true from Cape Spencer Light (58°11′56″ N. latitude, 136°38′26″ W. longitude) and south and east of a line running 205° true from said light;

(4) Area 3A includes all waters between Area 2C and a line extending from the most northerly point on Cape Aklek (57°41′15″ N. latitude, 155°35′00″ W. longitude) to Cape Ikolik (57°17′17″ N. latitude, 154°47′18″ W. longitude), then along the Kodiak Island coastline to Cape Trinity (56°44′50″ N. latitude, 154°08′44″ W. longitude), then 140° true;

(5) Area 3B includes all waters between Area 3A and a line extending 150° true from Cape Lutke (54°29′00″ N. latitude, 164°20′00″ W. longitude) and south of 54°49′00″ N. latitude in Isanotski Strait;

(6) Area 4A includes all waters in the Gulf of Alaska west of Area 3B and in the Bering Sea west of the closed area defined in section 10 that are east of 172°00′00″ W. longitude and south of 56°20′00″ N. latitude;

(7) Area 4B includes all waters in the Bering Sea and the Gulf of Alaska west of Area 4A and south of 56°20′00″ N. latitude;

(8) Area 4C includes all waters in the Bering Sea north of Area 4A and north of the closed area defined in section 10 which are east of 171°00′00″ W. longitude, south of 58°00′00″ N. latitude, and west of 168°00′00″ W. longitude;

(9) Area 4D includes all waters in the Bering Sea north of Areas 4A and 4B, north and west of Area 4C, and west of 168°00′00″ W. longitude; and

(10) Area 4E includes all waters in the Bering Sea north and east of the closed area defined in section 10, east of 168°00′00″ W. longitude, and south of 65°34′00″ N. latitude.

7. Fishing in Regulatory Area 4E and 4D

(1) Section 7 applies only to any person fishing, or vessel that is used to fish for, Area 4E Community Development Quota (CDQ) or Area 4D CDQ halibut, provided that the total annual halibut catch of that person or vessel is landed at a port within Area 4E or 4D.

(2) A person may retain halibut taken with setline gear in Area 4E CDQ and 4D CDQ fishery that are smaller than the size limit specified in section 13, provided that no person may sell or barter such halibut.

(3) The manager of a CDQ organization that authorizes persons to harvest halibut in the Area 4E or 4D CDQ fisheries must report to the Commission the total number and weight of undersized halibut taken and retained by such persons pursuant to section 7, paragraph (2). This report, which shall include data and methodology used to collect the data, must be received by the Commission prior to November 1 of the year in which such halibut were harvested.

8. Fishing Periods

(1) The fishing periods for each regulatory area apply where the catch limits specified in section 11 have not been taken.

(2) Each fishing period in the Area 2A directed commercial fishery ² shall begin at 0800 hours and terminate at 1800 hours local time on June 27, July 13, July 11, July 25, August 8, August 22, September 5, and September 19 unless the Commission specifies otherwise.

² The directed fishery is restricted to waters that are south of Point Chehalis, Washington (46°53′18″ N. latitude) under regulations promulgated by NMFS and published in the Federal Register.

(3) Notwithstanding paragraph (7) of section 11, an incidental catch fishery ³ is authorized during the sablefish seasons in Area 2A in accordance with regulations promulgated by NMFS. This fishery will occur between 1200 hours local time on March 17 and 1200 hours local time on November 7.

³ The incidental fishery during the directed, fixed gear sablefish season is restricted to waters that are north of Point Chehalis, Washington (46°53′18″ N. latitude) under regulations promulgated by NMFS at CFR 300.63. Landing restrictions for halibut retention in the fixed gear sablefish fishery can be found at CFR 660.231.

(4) Notwithstanding paragraph (2), and paragraph (7) of section 11, an incidental catch fishery is authorized during salmon troll seasons in Area 2A in accordance with regulations promulgated by NMFS. This fishery will occur between 1200 hours local time on March 17 and 1200 hours local time on November 7.

(5) The fishing period in Areas 2B, 2C, 3A, 3B, 4A, 4B, 4C, 4D, and 4E shall begin at 1200 hours local time on March 17 and terminate at 1200 hours local time on November 7, unless the Commission specifies otherwise.

(6) All commercial fishing for halibut in Areas 2A, 2B, 2C, 3A, 3B, 4A, 4B, 4C, 4D, and 4E shall cease at 1200 hours local time on November 7.

9. Closed Periods

(1) No person shall engage in fishing for halibut in any regulatory area other than during the fishing periods set out in section 8 in respect of that area.

(2) No person shall land or otherwise retain halibut caught outside a fishing period applicable to the regulatory area where the halibut was taken.

(3) Subject to paragraphs (7), (8), (9), and (10) of section 19, these Regulations do not prohibit fishing for any species of fish other than halibut during the closed periods.

(4) Notwithstanding paragraph (3), no person shall have halibut in his/her possession while fishing for any other species of fish during the closed periods.

(5) No vessel shall retrieve any halibut fishing gear during a closed period if the vessel has any halibut on board.

(6) A vessel that has no halibut on board may retrieve any halibut fishing gear during the closed period after the operator notifies an authorized officer or representative of the Commission prior to that retrieval.

(7) After retrieval of halibut gear in accordance with paragraph (6), the vessel shall submit to a hold inspection at the discretion of the authorized officer or representative of the Commission.

(8) No person shall retain any halibut caught on gear retrieved in accordance with paragraph (6).

(9) No person shall possess halibut on board a vessel in a regulatory area during a closed period unless that vessel is in continuous transit to or within a port in which that halibut may be lawfully sold.

10. Closed Area

All waters in the Bering Sea north of 55°00′00″ N. latitude in Isanotski Strait that are enclosed by a line from Cape Sarichef Light (54°36′00″ N. latitude, 164°55′42″ W. longitude) to a point at 56°20′00″ N. latitude, 168°30′00″ W. longitude; thence to a point at 58°21′25″ N. latitude, 163°00′00″ W. longitude; thence to Strogonof Point (56°53′18″ N. latitude, 158°50′37″ W. longitude); and then along the northern coasts of the Alaska Peninsula and Unimak Island to the point of origin at Cape Sarichef Light are closed to halibut fishing and no person shall fish for halibut therein or have halibut in his/her possession while in those waters except in the course of a continuous transit across those waters. All waters in Isanotski Strait between 55°00′00″ N. latitude and 54°49′00″ N. latitude are closed to halibut fishing.

11. Catch Limits

(1) The total allowable catch of halibut to be taken during the halibut fishing periods specified in section 8 shall be limited to the net weights expressed in pounds or metric tons shown in the following table:

Catch Limit in Net Weight by Regulatory Area
Regulatory area | Catch limit—net weight: Pounds | Catch limit—net weight: Metric tons
2A: directed commercial, and incidental commercial catch during salmon troll fishery | 203,784 | 92.4
2A: incidental commercial during sablefish fishery | 21,173 | 9.6
2B ⁴ | 7,038,000 | 3,191.8
2C | 2,624,000 | 1,190.0
3A | 11,918,000 | 5,405.0
3B | 5,070,000 | 2,299.3
4A | 1,567,000 | 710.7
4B | 1,869,000 | 847.6
4C | 1,107,355 | 502.2
4D | 1,107,355 | 502.2
4E | 250,290 | 113.5

(2) Notwithstanding paragraph (1), regulations pertaining to the division of the Area 2A catch limit between the directed commercial fishery and the incidental catch fishery as described in paragraph (4) of section 8 will be promulgated by NMFS and published in the Federal Register.

⁴ Area 2B includes the combined commercial and sport catch limits which will be allocated by DFO.

(3) The Commission shall determine and announce to the public the date on which the catch limit for Area 2A will be taken.

(4) Notwithstanding paragraph (1), Area 2B will close only when all Individual Vessel Quotas (IVQs) assigned by DFO are taken, or November 7, whichever is earlier.

(5) Notwithstanding paragraph (1), Areas 2C, 3A, 3B, 4A, 4B, 4C, 4D, and 4E will each close only when all Individual Fishing Quotas (IFQ) and all CDQs issued by NMFS have been taken, or November 7, whichever is earlier.

(6) If the Commission determines that the catch limit specified for Area 2A in paragraph (1) would be exceeded in an unrestricted 10-hour fishing period as specified in paragraph (2) of section 8, the catch limit for that area shall be considered to have been taken unless fishing period limits are implemented.

(7) When under paragraphs (2), (3), and (6) the Commission has announced a date on which the catch limit for Area 2A will be taken, no person shall fish for halibut in that area after that date for the rest of the year, unless the Commission has announced the reopening of that area for halibut fishing.

(8) Notwithstanding paragraph (1), the total allowable catch of halibut that may be taken in the Area 4E directed commercial fishery is equal to the combined annual catch limits specified for the Area 4D and Area 4E CDQ fisheries. The annual Area 4D CDQ catch limit will decrease by the equivalent amount of halibut CDQ taken in Area 4E in excess of the annual Area 4E CDQ catch limit.

(9) Notwithstanding paragraph (1), the total allowable catch of halibut that may be taken in the Area 4D directed commercial fishery is equal to the combined annual catch limits specified for Area 4C and Area 4D. The annual Area 4C catch limit will decrease by the equivalent amount of halibut taken in Area 4D in excess of the annual Area 4D catch limit.

Area 2B includes combined commercial and sport catch limits which will be allocated by DFO.

12. Fishing Period Limits

(1) It shall be unlawful for any vessel to retain more halibut than authorized by that vessel's license in any fishing period for which the Commission has announced a fishing period limit.

(2) The operator of any vessel that fishes for halibut during a fishing period when fishing period limits are in effect must, upon commencing an offload of halibut to a commercial fish processor, completely offload all halibut on board said vessel to that processor and ensure that all halibut is weighed and reported on State fish tickets.

(3) The operator of any vessel that fishes for halibut during a fishing period when fishing period limits are in effect must, upon commencing an offload of halibut other than to a commercial fish processor, completely offload all halibut on board said vessel and ensure that all halibut are weighed and reported on State fish tickets.

(4) The provisions of paragraph (3) are not intended to prevent retail over-the-side sales to individual purchasers so long as all the halibut on board is ultimately offloaded and reported.

(5) When fishing period limits are in effect, a vessel's maximum retainable catch will be determined by the Commission based on:

(a) The vessel's overall length in feet and associated length class;

(b) The average performance of all vessels within that class; and

(c) The remaining catch limit.

(6) Length classes are shown in the following table:

Overall length (in feet) | Vessel class
1-25 | A
26-30 | B
31-35 | C
36-40 | D
41-45 | E
46-50 | F
51-55 | G
56+ | H

(7) Fishing period limits in Area 2A apply only to the directed halibut fishery referred to in paragraph (2) of section 8.

13. Size Limits

(1) No person shall take or possess any halibut that:

(a) With the head on, is less than 32 inches (81.3 cm) as measured in a straight line, passing over the pectoral fin from the tip of the lower jaw with the mouth closed, to the extreme end of the middle of the tail, as illustrated in Figure 2; or

(b) With the head removed, is less than 24 inches (61.0 cm) as measured from the base of the pectoral fin at its most anterior point to the extreme end of the middle of the tail, as illustrated in Figure 2.

(2) No person on board a vessel fishing for, or tendering, halibut caught in Area 2A shall possess any halibut that has had its head removed.

14. Careful Release of Halibut

(1) All halibut that are caught and are not retained shall be immediately released outboard of the roller and returned to the sea with a minimum of injury by:

(a) Hook straightening;

(b) Cutting the gangion near the hook; or

(c) Carefully removing the hook by twisting it from the halibut with a gaff.

(2) Except that paragraph (1) shall not prohibit the possession of halibut on board a vessel that has been brought aboard to be measured to determine if the minimum size limit of the halibut is met and, if sublegal-sized, is promptly returned to the sea with a minimum of injury.

15. Vessel Clearance in Area 4

(1) The operator of any vessel that fishes for halibut in Areas 4A, 4B, 4C, or 4D must obtain a vessel clearance before fishing in any of these areas, and before the landing of any halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in Area 4A may be obtained only at Nazan Bay on Atka Island, Dutch Harbor or Akutan, Alaska, from an authorized officer of the United States, a representative of the Commission, or a designated fish processor.

(4) The vessel clearance required under paragraph (1) prior to fishing in Area 4B may only be obtained at Nazan Bay on Atka Island or Adak, Alaska, from an authorized officer of the United States, a representative of the Commission, or a designated fish processor.

(5) The vessel clearance required under paragraph (1) prior to fishing in Area 4C or 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any halibut caught in Area 4A, a vessel operator may obtain the clearance required under paragraph (1) only in Dutch Harbor or Akutan, Alaska, by contacting an authorized officer of the United States, a representative of the Commission, or a designated fish processor.

(8) Before unloading any halibut caught in Area 4B, a vessel operator may obtain the clearance required under paragraph (1) only in Nazan Bay on Atka Island or Adak, by contacting an authorized officer of the United States, a representative of the Commission, or a designated fish processor by VHF radio or in person.

(9) Before unloading any halibut caught in Area 4C and 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 18 for possessing halibut on board a vessel that was caught in more than one regulatory area in Area 4 is exempt from the clearance requirements of paragraph (1) of this section, provided that:

(a) The operator of the vessel obtains a vessel clearance prior to fishing in Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the areas in which the vessel will fish; and

(b) Before unloading any halibut from Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No halibut shall be on board the vessel at the time of the clearances required prior to fishing in Area 4.

(13) Any vessel that is used to fish for halibut only in Area 4A and lands its total annual halibut catch at a port within Area 4A is exempt from the clearance requirements of paragraph (1).

(14) Any vessel that is used to fish for halibut only in Area 4B and lands its total annual halibut catch at a port within Area 4B is exempt from the clearance requirements of paragraph (1).

(15) Any vessel that is used to fish for halibut only in Area 4C or 4D or 4E and lands its total annual halibut catch at a port within Area 4C, 4D, 4E, or the closed area defined in section 10, is exempt from the clearance requirements of paragraph (1).

(16) Any vessel that carries a transmitting VMS transmitter while fishing for halibut in Area 4A, 4B, 4C, or 4D and until all halibut caught in any of these areas is landed, is exempt from the clearance requirements of paragraph (1) of this section, provided that:

(a) The operator of the vessel complies with NMFS' vessel monitoring system regulations published at 50 CFR sections 679.28(f)(3), (4) and (5); and

(b) The operator of the vessel notifies NOAA Fisheries Office for Law Enforcement at 800-304-4846 (select option 1 to speak to an Enforcement Data Clerk) between the hours of 0600 and 0000 (midnight) local time within 72 hours before fishing for halibut in Area 4A, 4B, 4C, or 4D and receives a VMS confirmation number.

16. Logs

(1) The operator of any U.S. vessel fishing for halibut that has an overall length of 26 feet (7.9 meters) or greater shall maintain an accurate log of halibut fishing operations. The operator of a vessel fishing in waters in and off Alaska must use one of the following logbooks: the Groundfish/IFQ Daily Fishing Longline and Pot Gear Logbook provided by NMFS; the Alaska hook-and-line logbook provided by Petersburg Vessel Owners Association or Alaska Longline Fisherman's Association; the Alaska Department of Fish and Game (ADF&G) longline-pot logbook; or the logbook provided by IPHC. The operator of a vessel fishing in Area 2A must use either the Washington Department of Fish and Wildlife (WDFW) Voluntary Sablefish Logbook, Oregon Department of Fish and Wildlife (ODFW) Fixed Gear Logbook, or the logbook provided by IPHC.

(2) The logbook referred to in paragraph (1) must include the following information:

(a) The name of the vessel and the State (ADF&G, WDFW, ODFW, or California Department of Fish and Game) or Tribal vessel number;

(b) The date(s) upon which the fishing gear is set or retrieved;

(c) The latitude and longitude coordinates or a direction and distance from a point of land for each set or day;

(d) The number of skates deployed or retrieved, and number of skates lost; and

(e) The total weight or number of halibut retained for each set or day.

(3) The logbook referred to in paragraph (1) shall be:

(a) Maintained on board the vessel;

(b) Updated not later than 24 hours after 0000 (midnight) local time for each day fished and prior to the offloading or sale of halibut taken during that fishing trip;

(c) Retained for a period of two years by the owner or operator of the vessel;

(d) Open to inspection by an authorized officer or any authorized representative of the Commission upon demand; and

(e) Kept on board the vessel when engaged in halibut fishing, during transits to port of landing, and until the offloading of all halibut is completed.

(4) The log referred to in paragraph (1) does not apply to the incidental halibut fishery during the salmon troll season in Area 2A defined in paragraph (4) of section 8.

(5) The operator of any Canadian vessel fishing for halibut shall maintain an accurate log recorded in the British Columbia Integrated Groundfish Fishing Log provided by DFO.

(6) The logbook referred to in paragraph (5) must include the following information:

(a) The name of the vessel and the DFO vessel registration number;

(b) The date(s) upon which the fishing gear is set and retrieved;

(c) The latitude and longitude coordinates for each set;

(d) The number of skates deployed or retrieved, and number of skates lost; and

(e) The total weight or number of halibut retained for each set.

(7) The logbook referred to in paragraph (5) shall be:

(a) Maintained on board the vessel;

(b) Retained for a period of two years by the owner or operator of the vessel;

(c) Open to inspection by an authorized officer or any authorized representative of the Commission upon demand;

(d) Kept on board the vessel when engaged in halibut fishing, during transits to port of landing, and until the offloading of all halibut is completed;

(e) Mailed to the DFO (white copy) within seven days of offloading; and

(f) Mailed to the Commission (yellow copy) within seven days of the final offload if not collected by a Commission employee.

(8) No person shall make a false entry in a log referred to in this section.

17. Receipt and Possession of Halibut

(1) No person shall receive halibut caught in Area 2A from a United States vessel that does not have on board the license required by section 4.

(2) No person shall possess on board a vessel a halibut other than whole or with gills and entrails removed, except that this paragraph shall not prohibit the possession on board a vessel of:

(a) Halibut cheeks cut from halibut caught by persons authorized to process the halibut on board in accordance with NMFS regulations published at 50 CFR part 679;

(b) Fillets from halibut offloaded in accordance with section 17 that are possessed on board the harvesting vessel in the port of landing up to 1800 hours local time on the calendar day following the offload; ⁵ and

⁵ DFO has more restrictive regulations; therefore, section 17 paragraph (2)(b) does not apply to fish caught in Area 2B or landed in British Columbia.

(c) Halibut with their heads removed in accordance with section 13.

(3) No person shall offload halibut from a vessel unless the gills and entrails have been removed prior to offloading.

(4) It shall be the responsibility of a vessel operator who lands halibut to continuously and completely offload at a single offload site all halibut on board the vessel.

(5) A registered buyer (as that term is defined in regulations promulgated by NMFS and codified at 50 CFR part 679) who receives halibut harvested in IFQ and CDQ fisheries in Areas 2C, 3A, 3B, 4A, 4B, 4C, 4D, and 4E, directly from the vessel operator that harvested such halibut must weigh all the halibut received and record the following information on Federal catch reports: date of offload; name of vessel; vessel number (State, Tribal or Federal, but not IPHC vessel number); scale weight obtained at the time of offloading, including the scale weight (in pounds) of halibut purchased by the registered buyer, the scale weight (in pounds) of halibut offloaded in excess of the IFQ or CDQ, the scale weight of halibut (in pounds) retained for personal use or for future sale, and the scale weight (in pounds) of halibut discarded as unfit for human consumption.

(6) The first recipient, commercial fish processor, or buyer in the United States who purchases or receives halibut directly from the vessel operator that harvested such halibut must weigh and record all halibut received and record the following information on State fish tickets: the date of offload; vessel number (State, Tribal or Federal, not IPHC vessel number); total weight obtained at the time of offload including the weight (in pounds) of halibut purchased; the weight (in pounds) of halibut offloaded in excess of the IFQ, CDQ, or fishing period limits; the weight of halibut (in pounds) retained for personal use or for future sale; and the weight (in pounds) of halibut discarded as unfit for human consumption.

(7) The individual completing the State fish tickets for the Area 2A fisheries as referred to in paragraph (6) must additionally record whether the halibut weight is of head-on or head-off fish.

(8) For halibut landings made in Alaska, the requirements as listed in paragraph (5) and (6) can be met by recording the information in the Interagency Electronic Reporting Systems, eLandings in accordance with NMFS regulation published at 50 CFR part 679.

(9) The master or operator of a Canadian vessel that was engaged in halibut fishing must weigh and record all halibut on board said vessel at the time offloading commences and record on Provincial fish tickets or Federal catch reports the date; locality; name of vessel; the name(s) of the person(s) from whom the halibut was purchased; and the scale weight (in pounds) obtained at the time of offloading of all halibut on board the vessel including the pounds purchased, pounds in excess of IVQs, pounds retained for personal use, and pounds discarded as unfit for human consumption.

(10) No person shall make a false entry on a State or Provincial fish ticket or a Federal catch or landing report referred to in paragraphs (5), (6), and (9) of section 17.

(11) A copy of the fish tickets or catch reports referred to in paragraphs (5), (6), and (9) shall be:

(a) Retained by the person making them for a period of three years from the date the fish tickets or catch reports are made; and

(b) Open to inspection by an authorized officer or any authorized representative of the Commission.

(12) No person shall possess any halibut taken or retained in contravention of these Regulations.

(13) When halibut are landed to other than a commercial fish processor, the records required by paragraph (6) shall be maintained by the operator of the vessel from which that halibut was caught, in compliance with paragraph (11).

(14) No person shall tag halibut unless the tagging is authorized by IPHC permit or by a Federal or State agency.

18. Fishing Multiple Regulatory Areas

(1) Except as provided in this section, no person shall possess at the same time on board a vessel halibut caught in more than one regulatory area.

(2) Halibut caught in more than one of the Regulatory Areas 2C, 3A, or 3B may be possessed on board a vessel at the same time provided the operator of the vessel:

(a) Has a NMFS-certified observer on board when required by NMFS regulations ⁶ published at 50 CFR 679.7(f)(4); and

⁶ Without an observer, a vessel cannot have on board more halibut than the IFQ for the area that is being fished, even if some of the catch occurred earlier in a different area.

(b) Can identify the regulatory area in which each halibut on board was caught by separating halibut from different areas in the hold, tagging halibut, or by other means.

(3) Halibut caught in more than one of the Regulatory Areas 4A, 4B, 4C, or 4D may be possessed on board a vessel at the same time provided the operator of the vessel:

(a) Has a NMFS-certified observer on board the vessel as required by NMFS regulations published at 50 CFR 679.7(f)(4); or has an operational VMS on board actively transmitting in all regulatory areas fished and does not possess at any time more halibut on board the vessel than the IFQ permit holders on board the vessel have cumulatively available for any single Area 4 regulatory area fished; and

(b) Can identify the regulatory area in which each halibut on board was caught by separating halibut from different areas in the hold, tagging halibut, or by other means.

(4) If halibut from Area 4 are on board the vessel, the vessel can have halibut caught in Regulatory Areas 2C, 3A, and 3B on board if in compliance with paragraph (2).

19. Fishing Gear

(1) No person shall fish for halibut using any gear other than hook and line gear, except that vessels licensed to catch sablefish in Area 2B using sablefish trap gear as defined in the Condition of Sablefish Licence can retain halibut caught as bycatch under regulations promulgated by the Canadian Department of Fisheries and Oceans.

(2) No person shall possess halibut taken with any gear other than hook and line gear, except that vessels licensed to catch sablefish in Area 2B using sablefish trap gear as defined by the Condition of Sablefish Licence can retain halibut caught as bycatch under regulations promulgated by the Canadian Department of Fisheries and Oceans.

(3) No person shall possess halibut while on board a vessel carrying any trawl nets or fishing pots capable of catching halibut, except that in Areas 2C, 3A, 3B, 4A, 4B, 4C, 4D, or 4E, halibut heads, skin, entrails, bones or fins for use as bait may be possessed on board a vessel carrying pots capable of catching halibut, provided that a receipt documenting purchase or transfer of these halibut parts is on board the vessel.

(4) All setline or skate marker buoys carried on board or used by any United States vessel used for halibut fishing shall be marked with one of the following:

(a) The vessel's State license number; or

(b) The vessel's registration number.

(5) The markings specified in paragraph (4) shall be in characters at least four inches in height and one-half inch in width in a contrasting color visible above the water and shall be maintained in legible condition.

(6) All setline or skate marker buoys carried on board or used by a Canadian vessel used for halibut fishing shall be:

(a) Floating and visible on the surface of the water; and

(b) Legibly marked with the identification plate number of the vessel engaged in commercial fishing from which that setline is being operated.

(7) No person on board a vessel used to fish for any species of fish anywhere in Area 2A during the 72-hour period immediately before the fishing period for the directed commercial halibut fishery shall catch or possess halibut anywhere in those waters during that halibut fishing period unless, prior to the start of the halibut fishing period, the vessel has removed its gear from the water and has either:

(a) Made a landing and completely offloaded its catch of other fish; or

(b) Submitted to a hold inspection by an authorized officer.

(8) No vessel used to fish for any species of fish anywhere in Area 2A during the 72-hour period immediately before the fishing period for the directed halibut commercial fishery may be used to catch or possess halibut anywhere in those waters during that halibut fishing period unless, prior to the start of the halibut fishing period, the vessel has removed its gear from the water and has either:

(a) Made a landing and completely offloaded its catch of other fish; or

(b) Submitted to a hold inspection by an authorized officer.

(9) No person on board a vessel from which setline gear was used to fish for any species of fish anywhere in Areas 2B, 2C, 3A, 3B, 4A, 4B, 4C, 4D, or 4E during the 72-hour period immediately before the opening of the halibut fishing season shall catch or possess halibut anywhere in those areas until the vessel has removed all of its setline gear from the water and has either:

(a) Made a landing and completely offloaded its entire catch of other fish; or

(b) Submitted to a hold inspection by an authorized officer.

(10) No vessel from which setline gear was used to fish for any species of fish anywhere in Areas 2B, 2C, 3A, 3B, 4A, 4B, 4C, 4D, or 4E during the 72-hour period immediately before the opening of the halibut fishing season may be used to catch or possess halibut anywhere in those areas until the vessel has removed all of its setline gear from the water and has either:

(a) Made a landing and completely offloaded its entire catch of other fish; or

(b) Submitted to a hold inspection by an authorized officer.

(11) Notwithstanding any other provision in these Regulations, a person may retain, possess and dispose of halibut taken with trawl gear only as authorized by Prohibited Species Donation regulations of NMFS.

20. Supervision of Unloading and Weighing

The unloading and weighing of halibut may be subject to the supervision of authorized officers to assure the fulfillment of the provisions of these Regulations.

21. Retention of Tagged Halibut

(1) Nothing contained in these Regulations prohibits any vessel at any time from retaining and landing a halibut that bears a Commission external tag at the time of capture, if the halibut with the tag still attached is reported at the time of landing and made available for examination by a representative of the Commission or by an authorized officer.

(2) After examination and removal of the tag by a representative of the Commission or an authorized officer, the halibut:

(a) May be retained for personal use; or

(b) May be sold only if the halibut is caught during commercial halibut fishing and complies with the other commercial fishing provisions of these Regulations.

(3) Externally tagged fish must count against commercial IVQs, CDQs, IFQs, or daily bag or possession limits unless otherwise exempted by State, Provincial, or Federal regulations.

22. Fishing by United States Treaty Indian Tribes

(1) Halibut fishing in Subarea 2A-1 by members of United States treaty Indian tribes located in the State of Washington shall be regulated under regulations promulgated by NMFS and published in the Federal Register.

(2) Subarea 2A-1 includes all waters off the coast of Washington that are north of 46°53′18″ N. latitude and east of 125°44′00″ W. longitude, and all inland marine waters of Washington.

(3) Section 13 (size limits), section 14 (careful release of halibut), section 16 (logs), section 17 (receipt and possession of halibut) and section 19 (fishing gear), except paragraphs (7) and (8) of section 19, apply to commercial fishing for halibut in Subarea 2A-1 by the treaty Indian tribes.

(4) Regulations in paragraph (3) of this section that apply to State fish tickets apply to Tribal tickets that are authorized by Washington Department of Fish and Wildlife.

(5) Section 4 (Licensing Vessels for Area 2A) does not apply to commercial fishing for halibut in Subarea 2A-1 by treaty Indian tribes.

(6) Commercial fishing for halibut in Subarea 2A-1 is permitted with hook and line gear from March 17 through November 7, or until 321,650 pounds (145.9 metric tons) net weight is taken, whichever occurs first.

(7) Ceremonial and subsistence fishing for halibut in Subarea 2A-1 is permitted with hook and line gear from January 1 through December 31, and is estimated to take 24,500 pounds (11.1 metric tons) net weight.

23. Customary and Traditional Fishing in Alaska

(1) Customary and traditional fishing for halibut in Regulatory Areas 2C, 3A, 3B, 4A, 4B, 4C, 4D, and 4E shall be governed pursuant to regulations promulgated by NMFS and published in 50 CFR part 300.

(2) Customary and traditional fishing is authorized from January 1 through December 31.

24. Aboriginal Groups Fishing for Food, Social and Ceremonial Purposes in British Columbia

(1) Fishing for halibut for food, social and ceremonial purposes by Aboriginal groups in Regulatory Area 2B shall be governed by the Fisheries Act of Canada and regulations as amended from time to time.

25. Sport Fishing for Halibut—General

(1) No person shall engage in sport fishing for halibut using gear other than a single line with no more than two hooks attached; or a spear.

(2) Any minimum overall size limit promulgated under IPHC or NMFS regulations shall be measured in a straight line passing over the pectoral fin from the tip of the lower jaw with the mouth closed, to the extreme end of the middle of the tail.

(3) Any halibut brought aboard a vessel and not immediately returned to the sea with a minimum of injury will be included in the daily bag limit of the person catching the halibut.

(4) No person may possess halibut on a vessel while fishing in a closed area.

(5) No halibut caught by sport fishing shall be offered for sale, sold, traded, or bartered.

(6) No halibut caught in sport fishing shall be possessed on board a vessel when other fish or shellfish aboard said vessel are destined for commercial use, sale, trade, or barter.

(7) The operator of a charter vessel shall be liable for any violations of these Regulations committed by a passenger aboard said vessel.

26. Sport Fishing for Halibut—Area 2A

(1) The total allowable catch of halibut shall be limited to:

(a) 214,110 pounds (97.1 metric tons) net weight in waters off Washington; and

(b) 203,783 pounds (92.4 metric tons) net weight in waters off California and Oregon.

(2) The Commission shall determine and announce closing dates to the public for any area in which the catch limits promulgated by NMFS are estimated to have been taken.

(3) When the Commission has determined that a subquota under paragraph (8) of this section is estimated to have been taken, and has announced a date on which the season will close, no person shall sport fish for halibut in that area after that date for the rest of the year, unless a reopening of that area for sport halibut fishing is scheduled in accordance with the Catch Sharing Plan for Area 2A, or announced by the Commission.

(4) In California, Oregon, or Washington, no person shall fillet, mutilate, or otherwise disfigure a halibut in any manner that prevents the determination of minimum size or the number of fish caught, possessed, or landed.

(5) The possession limit on a vessel for halibut in the waters off the coast of Washington is the same as the daily bag limit. The possession limit on land in Washington for halibut caught in U.S. waters off the coast of Washington is two halibut.

(6) The possession limit on a vessel for halibut caught in the waters off the coast of Oregon is the same as the daily bag limit. The possession limit for halibut on land in Oregon is three daily bag limits.

(7) The possession limit on a vessel for halibut caught in the waters off the coast of California is one halibut. The possession limit for halibut on land in California is one halibut.

(8) The sport fishing subareas, subquotas, fishing dates, and daily bag limits are as follows, except as modified under the in-season actions in 50 CFR 300.63(c). All sport fishing in Area 2A is managed on a “port of landing” basis, whereby any halibut landed into a port counts toward the quota for the area in which that port is located, and the regulations governing the area of landing apply, regardless of the specific area of catch.

(a) The area in Puget Sound and the U.S. waters in the Strait of Juan de Fuca, east of a line extending from 48°17.30′ N. lat., 124°23.70′ W. long. north to 48°24.10′ N. lat., 124°23.70′ W. long., is not managed in-season relative to its quota. This area is managed by setting a season that is projected to result in a catch of 57,393 lb (26 mt).

(i) The fishing season in eastern Puget Sound (east of 123°49.50′ W. long., Low Point) is open May 3-19, 3 days per week, Thursday-Saturday. May 24-28, Thursday-Monday. May 31-June 2, 3 days per week, Thursday through Saturday. The fishing season in western Puget Sound (west of 123°49.50′ W. long., Low Point) is open May 24-28, Thursday-Monday, and open May 31-June 23, 3 days a week, Thursday-Saturday.

(ii) The daily bag limit is one halibut of any size per day per person.

(b) The quota for landings into ports in the area off the north Washington coast, west of the line described in paragraph (2)(a) of section 26 and north of the Queets River (47°31.70′ N. lat.), is 108,030 lb (49 mt).

(i) The fishing seasons are:

(A) Commencing on May 10 and continuing 2 days a week (Thursday and Saturday) until 108,030 lb (49 mt) are estimated to have been taken and the season is closed by the Commission or until May 19.

(B) If sufficient quota remains the fishery will reopen on May 31 and/or June 2 in the entire north coast subarea, continuing 2 days per week (Thursday and Saturday) until there is not sufficient quota for another full day of fishing and the area is closed by the Commission. When there is insufficient quota remaining to reopen the entire north coast subarea for another day, then the nearshore areas described below will reopen for 2 days per week (Thursday and Saturday), until the overall quota of 108,030 lb (49 mt) is estimated to have been taken and the area is closed by the Commission, or until September 30, whichever is earlier. After May 19, any fishery opening will be announced on the NMFS hotline at 800-662-9825. No halibut fishing will be allowed after May 19 unless the date is announced on the NMFS hotline. The nearshore areas for Washington's North Coast fishery are defined as follows:

(1) WDFW Marine Catch Area 4B, which is all waters west of the Sekiu River mouth, as defined by a line extending from 48°17.30′ N. lat., 124°23.70′W. long. north to 48°24.10′ N. lat., 124°23.70′ W. long., to the Bonilla-Tatoosh line, as defined by a line connecting the light on Tatoosh Island, WA, with the light on Bonilla Point on Vancouver Island, British Columbia (at 48°35.73′ N. lat., 124°43.00′ W. long.) south of the International Boundary between the U.S. and Canada (at 48°29.62′ N. lat., 124°43.55′ W. long.), and north of the point where that line intersects with the boundary of the U.S. territorial sea.

(2) Shoreward of the recreational halibut 30-fm boundary line, a modified line approximating the 30-fm depth contour from the Bonilla-Tatoosh line south to the Queets River. The 30-fm depth contour is defined in groundfish regulations at 50 CFR 660.71(e).

(ii) The daily bag limit is one halibut of any size per day per person.

(iii) Recreational fishing for groundfish and halibut is prohibited within the North Coast Recreational Yelloweye Rockfish Conservation Area (YRCA). It is unlawful for recreational fishing vessels to take and retain, possess, or land halibut taken with recreational gear within the North Coast Recreational YRCA. A vessel fishing in the North Coast Recreational YRCA may not be in possession of any halibut. Recreational vessels may transit through the North Coast Recreational YRCA with or without halibut on board. The North Coast Recreational YRCA is a C-shaped area off the northern Washington coast intended to protect yelloweye rockfish. The North Coast Recreational YRCA is defined in groundfish regulations at § 660.70(a).

(c) The quota for landings into ports in the area between the Queets River, WA (47°31.70′ N. lat.) and Leadbetter Point, WA (46°38.17′ N. lat.), is 42,739 lb (19.3 mt).

(i) This subarea is divided between the all-waters fishery (the Washington South coast primary fishery), and the incidental nearshore fishery in the area from 47°31.70′ N. lat. south to 46°58.00′ N. lat. and east of a boundary line approximating the 30 fm depth contour. This area is defined by straight lines connecting all of the following points in the order stated as described by the following coordinates (the Washington South coast, northern nearshore area):

(1) 47°31.70′ N. lat, 124°37.03′ W. long;

(2) 47°25.67′ N. lat, 124°34.79′ W. long;

(3) 47°12.82′ N. lat, 124°29.12′ W. long;

(4) 46°58.00′ N. lat, 124°24.24′ W. long.

The south coast subarea quota will be allocated as follows: 40,739 lb (18.4 mt) for the primary fishery and 2,000 lb (0.9 mt) for the nearshore fishery. The primary fishery commences on May 6 and continues 2 days a week (Sunday and Tuesday) until May 22. If the primary quota is projected to be obtained sooner than expected the management closure may occur earlier. Beginning on June 3 the primary fishery will be open at most 2 days per week (Sunday and/or Tuesday) until the quota for the south coast subarea primary fishery is taken and the season is closed by the Commission, or until September 30, whichever is earlier. The fishing season in the nearshore area commences on May 6 and continues seven days per week. Subsequent to closure of the primary fishery the nearshore fishery is open seven days per week, until 42,739 lb (19.3 mt) is projected to be taken by the two fisheries combined and the fishery is closed by the Commission or September 30, whichever is earlier. If the fishery is closed prior to September 30, and there is insufficient quota remaining to reopen the northern nearshore area for another fishing day, then any remaining quota may be transferred in-season to another Washington coastal subarea by NMFS via an update to the recreational halibut hotline.

(ii) The daily bag limit is one halibut of any size per day per person.

(iii) Seaward of the boundary line approximating the 30-fm depth contour and during days open to the primary fishery, lingcod may be taken, retained and possessed when allowed by groundfish regulations at 50 CFR 660.360, Subpart G.

(iv) Recreational fishing for groundfish and halibut is prohibited within the South Coast Recreational YRCA and Westport Offshore YRCA. It is unlawful for recreational fishing vessels to take and retain, possess, or land halibut taken with recreational gear within the South Coast Recreational YRCA and Westport Offshore YRCA. A vessel fishing in the South Coast Recreational YRCA and/or Westport Offshore YRCA may not be in possession of any halibut. Recreational vessels may transit through the South Coast Recreational YRCA and Westport Offshore YRCA with or without halibut on board. The South Coast Recreational YRCA and Westport Offshore YRCA are areas off the southern Washington coast established to protect yelloweye rockfish. The South Coast Recreational YRCA is defined at 50 CFR 660.70(d). The Westport Offshore YRCA is defined at 50 CFR 660.70(e).

(d) The quota for landings into ports in the area between Leadbetter Point, WA (46°38.17′ N. lat.) and Cape Falcon, OR (45°46.00′ N. lat.), is 11,895 lb (5.3 mt).

(i) The fishing season commences on May 3, and continues 3 days a week (Thursday, Friday and, Saturday) until 9,516 lb (4.3 mt) are estimated to have been taken and the season is closed by the Commission or until July 14, whichever is earlier. The fishery will reopen on August 3 and continue 3 days a week (Friday through Sunday) until 2,379 lb (1.1 mt) have been taken and the season is closed by the Commission, or until September 30, whichever is earlier. Subsequent to this closure, if there is insufficient quota remaining in the Columbia River subarea for another fishing day, then any remaining quota may be transferred in-season to another Washington and/or Oregon subarea by NMFS via an update to the recreational halibut hotline. Any remaining quota would be transferred to each state in proportion to its contribution.

(ii) The daily bag limit is one halibut of any size per day per person.

(iii) Pacific Coast groundfish may not be taken and retained, possessed or landed, except sablefish and Pacific cod when allowed by Pacific Coast groundfish regulations, when halibut are on board the vessel.

(e) The quota for landings into ports in the area off Oregon between Cape Falcon (45°46.00′ N. lat.) and Humbug Mountain (42°40.50′ N. lat.), is 191,780 lb (86.9 mt).

(i) The fishing seasons are:

(A) The first season (the “inside 40-fm” fishery) commences May 1 and continues 7 days a week through October 31, in the area shoreward of a boundary line approximating the 40-fm (73-m) depth contour, or until the sub-quota for the central Oregon “inside 40-fm” fishery (23,014 lb (10.4 mt)) or any in-season revised subquota is estimated to have been taken and the season is closed by the Commission, whichever is earlier. The boundary line approximating the 40-fm (73-m) depth contour between 45°46.00′ N. lat. and 42°40.50′ N. lat. is defined at § 660.71(k).

(B) The second season (spring season), which is for the “all-depth” fishery, is open three days week, Thursday through Saturday, on May 10-12, May 17-19, May 24-26, May 31-June 2, 2012. The projected catch for this season is 120,821 lb (54.8 mt). If sufficient unharvested catch remains for additional fishing days, the season will re-open. Depending on the amount of unharvested catch available, the potential season re-opening dates will be: June 14-16, June 28-30, July 12-14, and July 26-28. If NMFS decides in-season to allow fishing on any of these re-opening dates, notice of the re-opening will be announced on the NMFS hotline (206) 526-6667 or (800) 662-9825. No halibut fishing will be allowed on the re-opening dates unless the date is announced on the NMFS hotline.

(C) If sufficient unharvested catch remains, the third season (summer season), which is for the “all-depth” fishery, will be open every other Friday and Saturday on August 3-4, August 17-18, August 31-September 1, September 14-15, September 28-29, October 12-13 and October 26-27, 2012, or until the combined spring season and summer season quotas in the area between Cape Falcon and Humbug Mountain, OR, totaling 168,766 lb (76.5 mt), are estimated to have been taken and the area is closed by the Commission, or October 31, whichever is earlier. NMFS will announce on the NMFS hotline in July whether the fishery will re-open for the summer season in August. No halibut fishing will be allowed in the summer season fishery unless the dates are announced on the NMFS hotline. Additional fishing days may be opened if sufficient quota remains after the last day of the first scheduled open period August 4, 2012. If, after this date, an amount greater than or equal to 60,000 lb (27.2 mt) remains in the combined all-depth and inside 40-fm (73-m) quota, the fishery may re-open every Friday and Saturday, beginning August 17-18, August 31-September 1. If after September 3, an amount greater than or equal to 30,000 lb (13.6 mt) remains in the combined all-depth and inside 40-fm (73-m) quota, and the fishery is not already open every Friday and Saturday, the fishery may re-open every Friday and Saturday, beginning September 14 and 15, and ending October 31. After September 3, the bag limit may be increased to two fish of any size per person, per day. NMFS will announce on the NMFS hotline whether the summer all-depth fishery will be open on such additional fishing days, what days the fishery will be open and what the bag limit is.

(ii) The daily bag limit is one halibut of any size per day per person, unless otherwise specified. NMFS will announce on the NMFS hotline any bag limit changes.

(iii) During days open to all-depth halibut fishing, no Pacific Coast groundfish may be taken and retained, possessed or landed, except sablefish and Pacific cod, when allowed by Pacific Coast groundfish regulations, if halibut are on board the vessel.

(iv) When the all-depth halibut fishery is closed and halibut fishing is permitted only shoreward of a boundary line approximating the 40-fm (73-m) depth contour, halibut possession and retention by vessels operating seaward of a boundary line approximating the 40-fm (73-m) depth contour is prohibited.

(v) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is an area off central Oregon, near Stonewall Bank, intended to protect yelloweye rockfish. The Stonewall Bank YRCA is defined at § 660.70(f).

(f) The area south of Humbug Mountain, Oregon (42°40.50′ N. lat.) and off the California coast is not managed in-season relative to its quota. This area is managed on a season that is projected to result in a catch of 6,056 lb (2.7 mt).

(i) The fishing season will commence on May 1 and continue 7 days a week until October 31.

(ii) The daily bag limit is one halibut of any size per day per person.

27. Sport Fishing for Halibut—Area 2B

(1) In all waters off British Columbia: ⁷

⁷ DFO could implement more restrictive regulations for the sport fishery, therefore anglers are advised to check the current Federal or Provincial regulations prior to fishing.

(a) The sport fishing season is from February 1 to December 31;

(b) The daily bag limit is two halibut of any size per day per person.

(2) In British Columbia, no person shall fillet, mutilate, or otherwise disfigure a halibut in any manner that prevents the determination of minimum size or the number of fish caught, possessed, or landed.

(3) The possession limit for halibut in the waters off the coast of British Columbia is three halibut.

28. Sport Fishing for Halibut—Areas 2C, 3A, 3B, 4A, 4B, 4C, 4D, 4E

(1) In waters in and off Alaska: ⁸

⁸ NMFS could implement more restrictive regulations for the sport fishery or components of it, therefore, anglers are advised to check the current Federal or State regulations prior to fishing.

(a) The sport fishing season is from February 1 to December 31;

(b) The daily bag limit is two halibut of any size per day per person unless a more restrictive bag limit applies in Federal regulations at 50 CFR 300.65; and

(c) No person may possess more than two daily bag limits.

(2) No person on board a charter vessel ⁹ referred to in 50 CFR 300.65 and fishing in Regulatory Area 2C shall take or possess any halibut that:

⁹ Charter vessels are prohibited from harvesting halibut in Area 2C and 3A during one charter vessel fishing trip under regulations promulgated by NMFS at CFR 300.66.

(a) With head on, is greater than 45 inches (114.3 cm) and less than 68 inches (172.7 cm) as measured in a straight line, passing over the pectoral fin from the tip of the lower jaw with mouth closed, to the extreme end of the middle of the tail, as illustrated in Figure 3; and

(b) If the halibut is filleted the entire carcass, with head and tail connected as a single piece, must be retained on board the vessel until all fillets are offloaded.

(3) In Convention waters in and off Alaska, no person shall possess on board a vessel, including charter vessels and pleasure craft used for fishing, halibut that has been filleted, mutilated, or otherwise disfigured in any manner, except that:

(a) Each halibut may be cut into no more than 2 ventral pieces, 2 dorsal pieces, and 2 cheek pieces, with skin on all pieces; and

(b) Halibut in excess of the possession limit in paragraph (1)(c) of this section may be possessed on a vessel that does not contain sport fishing gear, fishing rods, hand lines, or gaffs.

29. Previous Regulations Superseded

These Regulations shall supersede all previous regulations of the Commission, and these Regulations shall be effective each succeeding year until superseded.

BILLING CODE 3510-22-P

BILLING CODE 3510-22-C

Classification

IPHC Regulations

These IPHC annual management measures are a product of an agreement between the United States and Canada and are published in the Federal Register to provide notice of their effectiveness and content. The notice-and-comment and delay-in-effectiveness date provisions of the Administrative Procedure Act (APA), 5 U.S.C. 553, are inapplicable to IPHC management measures because this regulation involves a foreign affairs function of the United States, 5 U.S.C. 553(a)(1). Furthermore, no other law requires prior notice and public comment for this rule. Because prior notice and an opportunity for public comment are not required to be provided for these portions of this rule by 5 U.S.C. 553, or any other law, the analytical requirements of the Regulatory Flexibility Act, 5 U.S.C. 601 et seq., are not applicable. Accordingly, no Regulatory Flexibility Analysis is required for this portion of the rule and none has been prepared.

2012 Area 2A Catch Sharing Plan, Annual Management Measures and Federal Regulations

Section 5 of the Northern Pacific Halibut Act of 1982 (Halibut Act, 16 U.S.C. 773c) allows the Regional Council having authority for a particular geographical area to develop regulations governing the allocation and catch of halibut in U.S. Convention waters as long as those regulations do not conflict with IPHC regulations. This action is consistent with the Pacific Council's authority to allocate halibut catches among fishery participants in the waters in and off the U.S. West Coast.

This action has been determined to be not significant for purposes of Executive Order 12866.

NMFS prepared an Initial Regulatory Flexibility Analysis (IRFA) in association with the proposed rule for this action. A final regulatory flexibility analysis (FRFA) incorporates the IRFA, a summary of the significant issues raised by the public comments in response to the IRFA, if any, and NMFS responses to those comments, and a summary of the analyses completed to support the action. NMFS received no comments on the IRFA. A copy of the FRFA is available from the NMFS Northwest Region (see ADDRESSES) and a summary of the FRFA follows:

The main management objective for the Pacific halibut fishery in Area 2A is to manage fisheries to remain within the TAC for Area 2A, while also allowing each commercial, recreational (sport), and tribal fishery to target halibut in the manner that is appropriate to meet both the conservation requirements for species that co-occur with Pacific halibut and the needs of fishery participants in particular fisheries and fishing areas.

The changes to the CSP, which allocates the catch of Pacific halibut among users in Washington, Oregon and California, and the codified regulations:

1. Adjust the primary fishery schedule for the Washington South coast subarea (section (f)(1)(iii)) to be open for the first 3 consecutive weeks Sunday and Tuesday and closed the following week.

2. Adjust the subarea quota split for the Columbia River subarea (section (f)(1)(iv)) between the early and late fishery from 70 percent for the early fishery and 30 percent for the late fishery to 80 percent for the early fishery and 20 percent for the late fishery, and adjust the Oregon contribution to the subarea quota to equal the Washington contribution.

3. Adjust the Oregon Central Coast subarea quota (section (f)(1)(v)) from 67 percent to 63 percent for the spring fishery and from 8 percent to 12 percent for the nearshore fishery and allow remaining quota to be allocated from the spring fishery to either the summer fishery and/or the nearshore fishery.

4. Make minor corrections to regulations at 300.63, to make the term “sablefish primary fishery” consistent through the halibut regulations and match the groundfish regulations where the term is defined. Current halibut regulations use inconsistent terms when referring to the same fishery.

Under the RFA, NMFS must identify the small entities impacted by this rule, describe that impact, and describe any alternatives considered. Under the Small Business Administration's (SBAs) regulations implementing the RFA, a fishing entity is considered “small” if it has gross annual receipts of less than $4 million. A governmental jurisdiction (i.e., town or community) is considered a small entity if it has fewer than 50,000 people.

Although many small and large nonprofit enterprises track fisheries management issues on the West Coast, the changes to the Plan, codified regulations and annual management measures will not directly affect those enterprises. Similarly, although many fishing communities are small governmental jurisdictions, no direct regulations for those governmental jurisdictions will result from this rule. However, charterboat operations and participants in the non-treaty directed commercial fishery off the coast of Washington, Oregon, and California, are small businesses that are directly regulated by this rule. In 2008, 570 vessels were issued IPHC licenses to retain halibut. IPHC issues licenses for: the directed commercial fishery in Area 2A, including licenses issued to retain halibut caught incidentally in the primary sablefish fishery (296 licenses in 2008); incidental halibut caught in the salmon troll fishery (135 licenses in 2008); and the charterboat fleet (139 licenses in 2008). In 2011, 604 vessels were issued IPHC licenses to retain halibut. IPHC issues licenses for: the directed commercial fishery in Area 2A (147 licenses in 2011); incidental halibut caught in the salmon troll fishery (316 licenses in 2011); and the charterboat fleet (141 licenses in 2011). No vessel may participate in more than one of these three fisheries per year. Individual recreational anglers and private boats are the only sectors that are not required to have an IPHC license to retain halibut. Current Pacific Fishery Management Council estimates show that there are 44 tribal longline vessels. Therefore, the total estimate of affected entities is 648 vessels when tribal vessels are combined with IPHC licenses. The total estimated of the directed commercial fishery fleet for 2012 is 191 vessels (147 directed commercial fishery licenses plus 44 tribal vessels). In 2008, the total directed commercial fleet was about 340 vessels.

NMFS does not have the data to analyze the impacts of these regulations on the charterboat fleet. However, impacts on the directed commercial fleets can be estimated via changes in ex-vessel revenues. According to the Pacific States Marine Fisheries Commission PacFIN data reports (Report 307), halibut prices have varied significantly by year: 2008—$3.57/lb, 2009—$2.72/lb, and through November 2010—$4.01 per lb. At $4.01 per lb, the projected ex-vessel value of the 2012 commercial tribal (346,150 lbs) and non-tribal (203,783 lbs) fishery is about $2.2 million. Therefore, average ex-vessel revenue to potential participant in the directed commercial halibut fleet is expected to receive is about $12,000 ($2.2 million divided by 191 vessels). At $3.57/lb, the estimated ex-vessel value of the 2008 commercial tribal (397,000 lbs) and non-tribal (321,381 lbs) fishery is $2.6 million. With a directed commercial fleet of 340 vessels, the 2008 estimated average revenue per potential participating vessel is about $7,500 per vessel. Compared to 2008, despite the decline in the TAC, vessels are benefiting from higher prices and fewer competing vessels.

The RIR/FRFA relies on the analysis in the 2009 RIR, which used information from the Pacific Fishery Management Council's Final Environmental Impact Statement (FEIS) (available at ADDRESSES) on the 2009-2010 Groundfish Biennial Harvest Specifications and Management Measures to make personal income impact projections of the TAC on coastal communities. Personal income is considered a key indicator of economic activity, and is used in economic analysis to evaluate distributional effects on local and regional economies associated with changes in regulations. Income impacts include the amount of employee salaries and benefits, business owner (proprietor) income, and property-related income (rents, dividends, interest, royalties, etc.) that result from commercial fishing and recreational expenditures. Using available analysis from the FEIS, the 2009 RIR estimated that the 2008 commercial, recreational, and tribal fisheries generated about $8.8 million in personal income for the coastal tribal and non-tribal communities. This 2008 estimate was based on a TAC of 1,220,000 lbs. For 2012, the TAC is 989,000 lbs, or about 81 percent of the 2008 TAC. On a proportional basis, this decline would suggest that the income impacts for 2012 would be about $7.0 million in 2008 dollars. Using the change in ex-vessel revenues as means of forecasting the change in community impact, the estimated 2012 income impact on coastal communities is about $7.5 million.)

NOAA Fisheries cannot exempt small entities or change the reporting requirements for small entities, because the limits and reporting requirements are determined by international negotiations. Thus, there are no other alternatives to the rule that minimize the impacts on small entities. The major economic effect on the fishery is from a change in the TAC which is set by international agreement. Given the TAC, the sport management measures implement the plan by managing the recreational fishery to meet the differing fishery needs of the various areas along the coast according to the plan's objectives. The measures will be very similar to last year's management measures.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of halibut management in Area 2A, NMFS maintains a toll-free telephone hotline where members of the public may call in to receive current information on seasons and requirements to participate in the halibut fisheries in Area 2A. This hotline also serves as small entity compliance guide. Copies of this final rule are available from the NMFS Northwest Regional Office upon request (See ADDRESSES). To hear the small entity compliance guide associated with this final rule, call the NMFS hotline at 800-662-9825.

WDFW and ODFW held public meetings and crafted alternatives to adjust management of the sport halibut fisheries in their states. The states then narrowed the alternatives under consideration and brought the resulting subset of alternatives to the Council at the Council's September and November 2011 meetings. The Council and the States both considered a range of alternatives that could have similarly improved angler enjoyment of participation in the fisheries while simultaneously protecting halibut and co-occurring groundfish species from overharvest. The range of alternatives that were considered, but ultimately rejected, includes alternate fishery structures, such as opening the sport fisheries on different days of the week than the final preferred alternative. Generally, because they have been through the state public review process by the time the alternatives reach the Council, there are not a large number of alternatives. Rather, the range of alternatives has generally been reduced to the proposed action and the status quo. The status quo alternative was rejected because it would fail to: align subarea quotas with recent participation, adjust season subarea quota splits to better match participation; and correct the codified regulations consistent with the groundfish regulations.

Pursuant to Executive Order 13175, the Secretary recognizes the sovereign status and co-manager role of Indian tribes over shared Federal and tribal fishery resources. Section 302(b)(5) of the Magnuson-Stevens Fishery Conservation and Management Act establishes a seat on the Pacific Council for a representative of an Indian tribe with federally recognized fishing rights from California, Oregon, Washington, or Idaho. The U.S. Government formally recognizes that 13 Washington Tribes have treaty rights to fish for Pacific halibut. In general terms, the quantification of those rights is 50 percent of the harvestable surplus of Pacific halibut available in the tribes' usual and accustomed fishing areas (described at 50 CFR 300.64). Each of the treaty tribes has the discretion to administer their fisheries and to establish their own policies to achieve program objectives. Accordingly, tribal allocations and regulations, including the changes to the CSP, have been developed in consultation with the affected tribe(s) and, insofar as possible, with tribal consensus.

NMFS NWR has initiated consultation on the halibut fishery under section 7 of the ESA because of the listing of yelloweye, canary, and bocaccio rockfish of the Puget Sound/Georgia Basin. Area 2A partially overlaps with the Distinct Population Segments (DPSs) for listed rockfish. NMFS completed a 7(a)(2)/7(d) determination memo under the Endangered Species Act (ESA) finding that bycatch in the 2012 fishery was not likely to be a significant impact on listed species, that direct effects of the fishery (e.g. direct takes) were not likely to jeopardize the continued existence of any listed species, and that in no way did the 2012 fishery make an irreversible or irretrievable commitment of resources by the agency. At this time the consultation is not completed.

List of Subjects in 50 CFR Part 300

Fisheries, Fishing, and Indian fisheries.

Dated: March 16, 2012.
Alan D. Risenhoover,
Acting Deputy Assistant Administrator for Regulatory Programs, National Marine Fisheries Service.

For the reasons set out in the preamble, 50 CFR part 300 is amended as follows:

PART 300—INTERNATIONAL FISHERIES REGULATIONS

1. The authority citation for part 300 continues to read as follows:

Authority: 16 U.S.C. 773 et seq.

2. In § 300.63, paragraphs (b)(3), (d)(1)(ii), (d)(3), (d)(4), (d)(6), and (e)(2) are revised to read as follows:

§ 300.63 Catch sharing plan and domestic management measures in Area 2A.

* * * * *

(b) * * *

(3) A portion of the Area 2A Washington recreational TAC is allocated as incidental catch in the sablefish primary fishery north of 46°53.30' N. lat, (Pt. Chehalis, Washington), which is regulated under 50 CFR 660.231. This fishing opportunity is only available in years in which the Area 2A TAC is greater than 900,000 lb (408.2 mt,) provided that a minimum of 10,000 lb (4.5 mt) is available above a Washington recreational TAC of 214,100 lb (97.1 mt). Each year that this harvest is available, the landing restrictions necessary to keep this fishery within its allocation will be recommended by the Pacific Fishery Management Council at its spring meetings, and will be published in the Federal Register. These restrictions will be designed to ensure the halibut harvest is incidental to the sablefish harvest and will be based on the amounts of halibut and sablefish available to this fishery, and other pertinent factors. The restrictions may include catch or landing ratios, landing limits, or other means to control the rate of halibut landings.

(i) In years when this incidental harvest of halibut in the sablefish primary fishery north of 46°53.30′ N. lat. is allowed, it is allowed only for vessels using longline gear that are registered to groundfish limited entry permits with sablefish endorsements and that possess the appropriate incidental halibut harvest license issued by the Commission.

(ii) It is unlawful for any person to possess, land or purchase halibut south of 46°53.30′ N. lat. that were taken and retained as incidental catch authorized by this section in the sablefish primary fishery.

* * * * *

(d) * * *

(1) * * *

(ii) The commercial directed fishery for halibut during the fishing period(s) established in section 8 of the annual domestic management measures and IPHC regulations and/or the incidental retention of halibut during the sablefish primary fishery described at 50 CFR 660.231; or

* * * * *

(3) No person shall fish for halibut in the directed commercial halibut fishery during the fishing periods established in section 8 of the annual domestic management measures and IPHC regulations and/or retain halibut incidentally taken in the sablefish primary fishery in Area 2A from a vessel that has been used during the same calendar year for the incidental catch fishery during the salmon troll fishery as authorized in Section 8 of the annual domestic management measures and IPHC regulations.

(4) No person shall fish for halibut in the directed commercial halibut fishery and/or retain halibut incidentally taken in the sablefish primary fishery in Area 2A from a vessel that, during the same calendar year, has been used in the sport halibut fishery in Area 2A or that is licensed for the sport charter halibut fishery in Area 2A.

* * * * *

(6) No person shall retain halibut in the salmon troll fishery in Area 2A as authorized under section 8 of the annual domestic management measures and IPHC regulations taken on a vessel that, during the same calendar year, has been used in the directed commercial halibut fishery during the fishing periods established in Section 8 of the annual domestic management measures and IPHC regulations and/or retained halibut incidentally taken in the sablefish primary fishery for Area 2A or that is licensed to participate in these commercial fisheries during the fishing periods established in Section 8 of the annual domestic management measures and IPHC regulations in Area 2A.

(e) * * *

(2) Non-treaty commercial vessels operating in the incidental catch fishery during the sablefish primary fishery north of Pt. Chehalis, Washington, in Area 2A are required to fish outside of a closed area. Under Pacific Coast groundfish regulations at 50 CFR 660.230, fishing with limited entry fixed gear is prohibited within the North Coast Commercial Yelloweye Rockfish Conservation Area (YRCA). It is unlawful to take and retain, possess, or land halibut taken with limited entry fixed gear within the North Coast Commercial YRCA. The North Coast Commercial YRCA is an area off the northern Washington coast, overlapping the northern part of the North Coast Recreational YRCA, and is defined by straight lines connecting latitude and longitude coordinates. Coordinates for the North Coast Commercial YRCA are specified in groundfish regulations at 50 CFR 660.70(b).

* * * * *

[FR Doc. 2012-6858 Filed 3-19-12; 11:15 am]

BILLING CODE 3510-22-P